NUCLEAR REGULATORY COMMISSION

[Docket Nos. 50-373 and 50-374]

Exelon Generation Company, LLC; LaSalle County Station, Units 1 and 2; Notice of Withdrawal of Application for Amendment to Facility Operating License

The U.S. Nuclear Regulatory Commission (the Commission) has granted the request of Exelon Generation Company, LLC (the licensee), to withdraw its May 31, 2002 application, as supplemented by letter dated October 4, 2002, for proposed amendments to Facility Operating License Nos. NPF-11 and NPF-18 for LaSalle County Station, Units 1 and 2, respectively, located in LaSalle County, Illinois.

The proposed amendments would have changed Appendix A, Technical Specifications (TS) , of the Facility Operating Licenses. Specifically, the proposed change would have modified TS Surveillance Requirement 3.6.1.3.8 to reduce the number of excess flow check valves required to be tested every 24 months.

The Commission had previously issued a Notice of Consideration of Issuance of Amendment published in the Federal Register on July 23, 2002 (67 FR 48218). However, by letter dated October 30, 2002, the licensee withdrew the proposed change.

For further details with respect to this action, see the application for amendment dated May 31, 2002, as supplemented by letter dated October 4, 2002, and the licensee's letter dated October 30, 2002, which withdrew the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 12th day of December, 2002.
For the Nuclear Regulatory Commission.
William A. Macon, Jr.,
Project Manager, Section 2, Project Directorate III, Division of Licensing Project Management, Office of Nuclear Reactor Regulation.

[FR Doc. 02-31871 Filed 12-17-02; 8:45 am]

BILLING CODE 7590-01-P